DEPARTMENT OF ENERGY

Federal Energy Regulatory Commission

[Docket No. RP99-381-004]

Wyoming Interstate Company, Ltd.; Notice of Compliance Filing

March 17, 2000.

Take notice that on March 14, 2000, Wyoming Interstate Company, Ltd. (WIC) tendered for filing as part of its FERC Gas Tariff, Second Revised Volume No. 2, the following tariff sheets, to become effective on January 1, 2000:

Sub Alternate Original Sheet No. 85A

Sub Alternate Original Sheet No. 85B

WIC asserts that the purpose of this filing is to comply with a Commission Order issued on February 29, 2000 (90 FERC ¶61,200), in Docket No. RP99-381 et al. Specifically, the filing reflects revised tariff language in General Terms and Conditions Section 33.4 that clarifies that WIC may in general rate cases seek a discount-type adjustment for negotiated discounts.

WIC states that a full copy of its filing is being served on each jurisdictional customer, interested state commission, and each party that has requested service as well as upon each party appearing on the Commission's official service list for Docket No. RP99-381.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on the file with the Commission and are available for public inspection in the Public Reference Room. This filing may be viewed on the web at http://www.ferc.fed.us/online/rims.htm (call 202-208-2222 for assistance).

David P. Boergers,
Secretary.

[FR Doc. 00-7158 Filed 3-22-00; 8:45 am]

BILLING CODE 6717-01-M